DEPARTMENT OF HEALTH AND HUMAN SERVICES

Administration for Children and Families

Proposed Information Collection Activity; Regional Partnership Grants National Cross-Site Evaluation and Evaluation Technical Assistance (OMB #0970-0527)

AGENCY: Children's Bureau, Administration for Children and Families, HHS.

ACTION: Request for public comment.

SUMMARY: The Children's Bureau (CB), Administration for Children and Families (ACF), U.S. Department of Health and Human Services (HHS), is requesting an extension with minor changes to the approved information collection: Regional Partnership Grants National Cross-Site Evaluation and Evaluation Technical Assistance (OMB #0970-0527). The proposed information collection will be used in a national cross-site evaluation of the fifth and sixth cohorts of CB's Regional Partnership Grants (RPG). The cross-site evaluation will use surveys, interviews, progress reports, and data on participant enrollment, services, and outcomes.

DATES: Comments due within 60 days of publication. In compliance with the requirements of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION: Description: The Child and Family Services Improvement Act of 2006 (Pub. L. 109-288) amended section 437 of the Social Security Act (42 U.S.C. 629g(f)) and authorized CB to fund discretionary grants to improve safety, well-being, and permanency outcomes for children at risk of or in out-of-home placement because of their caregiver's substance misuse. In response, HHS launched a competitive grants program called “Targeted Grants to Increase the Well-Being of, and to Improve the Permanency Outcomes for, Children Affected by Methamphetamine and Other Substance Abuse,” which is also known as the RPG program. Reauthorized in 2011 and again most recently by the Bipartisan Budget Act of 2018 (Pub. L. 115-123) in 2018, these grants are designed to support partnerships between child welfare agencies, substance use disorder treatment organizations, and other social services systems, and thereby improve the well-being, permanency, and safety outcomes of children and families. Under four prior rounds of RPG, CB has issued 91 grants to organizations such as child welfare or substance use treatment providers or family court systems to develop interagency collaborations and integration of programs, activities, and services designed to increase well-being, improve permanency, and enhance the safety of children who are in an out-of-home placement or at risk of being placed in out-of-home care as a result of a parent's or caretaker's substance misuse. In 2018 CB awarded 10 grants in a fifth cohort (RPG5) and 9 additional grants in a sixth cohort (RPG6) in 2019. The current information collection request (ICR) is for data collection activities associated with the 18 grantees in the fifth and sixth cohorts. The first three cohorts were included in previous ICRs (OMB Control Numbers 0970-0353 and 0970-0444), and the fourth cohort was covered in the previous 3-year clearance under this ICR (OMB #0970-0527).

The RPG cross-site evaluation will extend our understanding of the types of programs and services grantees provided to participants, how grantees leveraged their partnerships to coordinate services for children and families, how grantees plan to sustain their programs after their grants end, and the outcomes for children and families enrolled in RPG programs. First, the cross-site evaluation will assess the coordination of partners' service systems (e.g., shared participant data, joint staff training) to better understand how partners' collaborative efforts affected the services offered to families (partnerships analysis). The cross-site evaluation will also focus on the partnership between the child welfare and substance use treatment agencies to add to the research base about how these agencies can collaborate to address the needs of children and families affected by substance misuse. Second, the evaluation will describe the characteristics of participants served by RPG programs, the types of services provided to families, the dosage of each type of service received by families, and the level of participant engagement with the services provided (enrollment and services analysis). Third, the evaluation will describe supports within the partnership that can help improve and sustain RPG services, such as continuous use of data for service improvement, identification of a lead organization, and policies, resources, and funding sources that will be needed after grant funding ends. Finally, the evaluation will assess the outcomes of children and adults served through the RPG program, such as child behavioral problems, adult depressive symptoms, or adult substance use and treatment (outcomes and impacts analysis).

The evaluation is being undertaken by CB and its contractor Mathematica and its subcontractor, WRMA Inc. The evaluator is required to advise CB on the instruments grantees use to collect data from program participants for required local evaluations. Grantees will secure approval from their local institutional review boards for collecting these data.

This ICR requests a renewal of clearance for the OMB package #0970-0527, which was originally approved in May 2019, for obtaining participant data from grantees that they collect for their local evaluations and for directly collecting additional data from grantees and their partners and providers for the cross-site evaluation. This ICR requests an extension to allow more time for the information collection and includes a revision to add the sustainability survey as a new data collection activity. Specifically, this ICR requests clearance for the following data collection activities: (1) Site visits with grantees, (2) a web-based survey about grantee partnerships, (3) a web-based survey about sustainability planning, (4) semiannual progress reports, (5) enrollment and services data provided by grantees, and (6) outcomes and impacts data provided by grantees.

Respondents: Respondents include grantee staff or contractors (such as local evaluators) and partner staff. Specific types of respondents and the expected number per data collection effort are noted in the burden table below.

Annual Burden Estimates
Data collection activity | Total number of respondents | Number of responses per respondent (each year) | Average burden hours per response (in hours) | Total annual burden hours
Site Visit and Key Informant Data Collection
Program director individual interview | 8 | 0.33 | 2 | 5
Program manager/supervisor individual interviews | 8 | 0.33 | 1 | 3
Frontline staff interviews | 16 | 0.33 | 1 | 5
Partner representative interviews | 24 | 0.33 | 1 | 8
Partner survey | 40 | 0.33 | 0.42 | 6
Sustainability survey | 126 | 0.42 | 0.33 | 18
Enrollment, client and service data
Semi-annual progress reports | 18 | 2 | 16.5 | 594
Case enrollment data | 54 | 33 | 0.25 | 446
Case closure | 54 | 33 | 0.0167 | 30
Case closure—prenatal | 18 | 10 | 0.01672 | 3
Service log entries | 108 | 1,560 | 0.033 | 5,560
Outcome and impact data
Administrative Data:
Obtain access to administrative data | 18 | 1 | 41 | 738
Report administrative data | 18 | 2 | 144 | 5,184
Standardized instruments:
Enter data into local database | 18 | 100 | .625 | 1,125
Review records and submit | 18 | 2 | 25 | 900
Data entry for comparison study sites (16 grantees) | 16 | 100 | .625 | 1,000
Estimated Total Burden Hours |  |  |  | 15,625

Estimated Total Annual Burden Hours: 15,625.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: The Child and Family Services Improvement Act of 2006 (Pub. L. 109-288) created the competitive RPG program. The September 30, 2011, passage of the Child and Family Services Improvement and Innovation Act (Pub. L. 112-34) extended funding for the RPG program from federal fiscal year (FFY) 2012 to FFY 2016. In 2018, the president signed the Bipartisan Budget Act of 2018 (Pub. L. 115-123) into law reauthorizing the RPG program through FFY 2021 and added a focus on opioid abuse.

Mary B. Jones,
ACF/OPRE Certifying Officer.

[FR Doc. 2021-26913 Filed 12-10-21; 8:45 am]

BILLING CODE 4184-29-P